DEPARTMENT OF LABOR

[SGA 01-09]

High School/High Tech Realignment Grants

AGENCY: Office of Disability Employment Policy, Department of Labor.

ACTION: Notice of availability of funds and solicitation for grant applications.

SUMMARY: The U.S. Department of Labor (DOL), Office on Disability Employment Policy (ODEP) announces the availability of $300,000 to award twenty competitive grants in the amount of $15,000 each. The purpose of this Solicitation for Grant Application (SGA) is to invite proposals from eligible candidates. Grants will be awarded for a one-year period.

The purpose of these grants is to fund the realignment of currently operating High School/High Tech (HS/HT) programs with the local areas' Workforce Investment Act (WIA) of 1998 youth programs (WIA Local Workforce Investment Boards and their Youth Councils, Job Corps Centers, Youth Opportunity Grant programs, WIA Formula-Funded Youth Programs, WIA Native American Programs or WIA Migrant Worker programs). The goal of these realignment grants is to develop strategies, relationships, joint funding and/or support through which HS/HT programs for youths with disabilities enter into a new or stronger partnerships with at least one of the WIA youth-focused programs mentioned above.

The HS/HT program is designed to provide young people with disabilities an opportunity to explore educational opportunities leading to technology-related careers. It serves either in-school or out-of-school youth with disabilities in a one-year long program of corporate site visits, mentoring, job shadowing, guest speakers, after school activities and paid summer internships. In addition, the HS/HT program responds to all four of WIA's youth programming themes: employment preparation; educational achievement; support; and leadership.

The purpose of this SGA is to help the existing HS/HT programs associated with ODEP to entered into a new or stronger partnership with local WIA operations or programs. This SGA is designed to demonstrate both the merits and techniques of bringing the High School/High Tech program into alignment and full partnership with WIA's youth-related programs.

DATES: One (1) ink-signed original, complete grant application plus three (3) copies of the Technical Proposal and three (2) copies of the Cost Proposal shall be submitted to the U.S. Department of Labor, Procurement Services Center, Attention Grant Officer, Reference SGA 01-09, Room N-5416, 200 Constitution Avenue, NW., Washington, DC 20210, not later than 4:45 p.m. EST, August 10, 2001. Hand-delivered applications must be received by the Procurement Services Center by that time.

ADDRESSES: Grant applications must be hand delivered or mailed to U.S. Department of Labor, Procurement Services Center, Attention: Grant Officer, Reference SGA 01-09, Room N-5416, 200 Constitution Avenue, N.W., Washington, D.C. 20210. Applicants must verify delivery to this office directly through their delivery service and as soon as possible.

FOR FURTHER INFORMATION CONTACT: Applications will not be mailed. The Federal Register may be obtained from your nearest government office or library. Questions concerning this solicitation may be sent to Cassandra Willis, at the following Internet address: willis-cassandra@dol.gov.

Late Proposals

The grant application package must be received at the designated place by the date and time specified or it will not be considered. Any application received at the Procurement Services Center after 4:45 p.m. ET, August 10, 2001, will not be considered unless it is received before the award is made and:

1. It was sent by registered or certified mail not later than the fifth calendar August 10, 2001;

2. It is determined by the Government that the late receipt was due solely to mishandling by the Government after receipt at the U.S. Department of Labor at the address indicated; or

3. It was sent by U.S. Postal Service Express Mail Next Day Service-Post Office to Addressee, not later than 5:00 p.m. at the place of mailing two (2) working days, excluding weekends and Federal holidays, prior to August 10, 2001.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise place impression (not a postage meter machine impression) that is readily identifiable without further action as having been applied and affixed by an employee of the U.S. Postal Service on the date of mailing. Therefore applicants should request the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by telegram or facsimile (FAX) will not be accepted.

SUPPLEMENTARY INFORMATION:

I. Authority

Consolidated Appropriations Act, 2001, Public Law 106-554,114 STAT 2763A-10, 29 U.S.C. 557(b).

II. Background

Often the challenges that young people with disabilities face when obtaining jobs and careers in technology-related occupations is overlooked. As a result, youths with disabilities are seldom afforded post-secondary preparation and educational opportunities leading to internships and placements in technology-related careers. This is a significant loss of potential when we realize that: (1) People with disabilities have already demonstrated that they can be successful in these occupations; (2) technology jobs represent an ever increasing segment of the workforce; and (3) many current school-to-careers initiatives do not always include students with disabilities.

WIA youth focused entities and programs (WIA Local Boards and their Youth Councils, Job Corps Centers, Youth Opportunity Grant programs, WIA Formula-Funded Youth Programs, WIA Native American Programs or WIA Migrant Worker programs), hold tremendous potential to support career development activities for young people with disabilities.

HS/HT programs are now in operation in 60 communities across the nation. HS/HT graduates are twice as likely as other youth with disabilities to pursue post-secondary education. In some HS/HT programs, as many as 70 percent of their HS/HT graduates move on to post-secondary education. HS/HT clearly enhances expectations, education achievement and eventual employment outcomes for a population who, without this intervention, is far more likely to move onto the Social Security rolls than to find competitive employment in technology-related occupations. As a community-based program, the HS/HT Program works within community systems to help coordinate the delivery of education and transition services to students with disabilities. Locally-based High School/High Tech programs represent community-based partnerships of local stakeholders that include employers, educators, consumers, family members, and workforce system agencies, especially rehabilitation professionals. The HS/HT program offers local WIA programs a proven technique for developing improved systems and employment outcomes for young people with disabilities.

The goals of HS/HT match WIA's youth programming themes of employment preparation, educational achievement, support, and leadership. The HS/HT model includes eight of the 10 WIA required youth programming elements:

1. Summer employment opportunities;

2. Work experience;

3. Occupational skills training;

4. Tutoring;

5. Support services;

6. Adult mentoring;

7. Comprehensive guidance; and

8. Leadership development (WIA, sec. 129(c)(2), 29 U.S.C. 2854(c)(2)).

Nonetheless, WIA and HS/HT programs have different areas of expertise. By linking these two programs, youth who are often under served and misunderstood will receive effective and appropriate services.

Thus, the purpose of this SGA is to begin to bring these two resources together in a demonstration on how they can be mutually supportive. Under a separate Solicitation for Grant Application, a proposed WIA Disability Technical Assistance Consortium for Youth is to be funded. Among its responsibilities will be to provide technical assistance to both new and existing HS/HT sites, as well as to support bringing them into alignment with WIA youth programs. Ultimately, it is envisioned that the HS/HT Program will become one more model program helping WIA youth initiatives better serve youth with disabilities.

III. Purpose

The U.S. Department of Labor's Office on Disability Employment Policy (ODEP), the sponsoring agency of this SGA, was formed under the authority of the DOL's FY ’01 appropriations, and by a supporting Executive Order 13187 of January 10, 2001, transferring the assets of the former U.S. President's Committee on Employment of People with Disabilities (PCEPD) to the DOL. ODEP operates a number of programs that are designed to assist with the employment and training of persons with disabilities, including youth with disabilities.

One of ODEP's key youth programs is the High School/High Tech (HS/HT) program. The High School/High Tech programs work with community systems to coordinate the delivery of educational and transitional services to youths with disabilities. Local High School/High Tech programs represent partnerships of local, state and national stakeholders that include employers, educators, rehabilitation professionals, consumers, and parents.

As a community-based, work-based, and school-based program, High School/High Tech is designed to provide opportunities for students with disabilities to explore careers in technology-related occupations. HS/HT students across the nation learn first-hand what it's like to work in high tech environments. Site visits, mentoring, job/career shadowing, and paid summer internships all provide students with the opportunities to learn more about careers in science, engineering and technology-related fields. HS/HT students also work on developing career goals. In localities where a High School/High Tech program is in place, 20 percent to 70 percent of the program participants go on to post-secondary education. The national average for the population, without this intervention, is six percent to nine percent (9%) (American Council on Education, 1999).

To learn about the structure and operations of the High School/High Tech Program, consult the HS/HT Program Web site: http://www.dol.gov/odep/public/programs/high.htm and the High School/High Tech Program Guide at: http://www.dol.gov/odep/public/programs/high.htm.

IV. Statement of Work

These grants are to assist operating existing High School/High Tech programs to re-align and enhance their program to achieve the following objectives:

1. Develop model strategies, relationships, joint funding or support, and joint programming through which the HS/HT program for youths with disabilities enters into new or stronger partnerships with at least one WIA entity or program component (WIA Local Boards and their Youth Councils, Job Corps Centers, Youth Opportunity Grant programs, WIA Formula-Funded Youth Programs, WIA Native American Programs or WIA Migrant Worker programs);

2. Demonstrate how the HS/HT model can provide the WIA program with a program model to improve the continuing (post-secondary) education and employment of young people with disabilities;

3. Demonstrate how the HS/HT model can deliver WIA's youth program themes and meet the required elements for young people with disabilities;

4. Serve at least 10 young people with disabilities for one year with the core elements of a HS/HT program (corporate site visits, mentioning, job shadowing, relevant guest speakers, after school activities and paid summer internships) in alignment with a WIA program;

5. Cooperate with ODEP and its technical assistance consortium to provide information and advice to other WIA youth programs on how either the HS/HT model can be replicated in their communities or how existing HS/HT programs can be brought into alignment with local WIA programs; and

6. Describe plans to report demographic characteristics of program participants, types of programming activities and program outcomes (post-secondary education and employment) of youth with disabilities served through HS/HT.

V. Funding Availability

The period of performance will be 12 months from the date of execution by the Government.

VI. Eligible Applicants

Eligible applicants are limited to the operators of existing High School/High Tech programs working in cooperation with the Office on Disability Employment Policy of the U.S. Department of Labor.

Please note that eligible grant/cooperative agreement applicants must not be classified under the Internal Revenue Code as a Section 501(c)(4) entity. See 26 U.S.C. 506(c)(4). According to Section 18 of the Lobbying Disclosure Act of 1995, an organization, as described in Section 501(c)(4) of the Internal Revenue Code of 1986, that engages in lobbying activities will not be eligible for the receipt of federal funds constituting an award, grant, or loan.

VII. Application Contents

General Requirements—Two copies and an original of the proposal must be submitted, one of which must contain an original signature. Proposals may be submitted by the applicant only.

The proposal shall consist of a Project Narrative which must be no more than 10 double-spaced, single sided, numbered pages. The Project Narrative must meet the statement of work outlined in Section II above.

Applications must include a detailed financial plan which identifies by line item the budget plan designed to achieve the goals of this grant. The Financial Proposal must contain the SF-424, Application for Federal Assistance, (Appendix A) and Budget Information Sheet SF-424A (Appendix B).

In addition, the budget must include on a separate page a detailed cost analysis of each line item. Justification for administrative costs must be provided. Approval of a budget by DOL is not the same as the approval of actual costs. The individual signing the SF-424 on behalf of the applicant must represent the responsible financial and administrative entity for a grant should that application result in an award. The applicant must also include the Assurances and Certifications Signature Page (Appendix C).

VIII. Evaluation Criteria/Selection

A. Evaluation Criteria

The application should include appropriate information of the type described below:

1. Significance of the Proposed Project (15 Points)

In evaluation the significance of the proposed project, the Department will consider the following factors.

1. The current relationship, if any with your area's WIA program.

2. The numbers of young persons with disabilities served in your HS/HT program, their outcomes (post-secondary education and employment), and the program's potential for serving more students.

3. Related issues that affect the realignment of your HS/HT program with your local WIA program.

2. Quality of the Project Design (30 Points)

In evaluation the quality of the proposed project, the Department will consider the following factors.

a. The technical plan for creating a new or greater alignment between your HS/HT program and your area's WIA program through partnership formation, joint funding arrangements, and/or joint programming opportunities. This should include a plan for providing your WIA program with a presentation on how your HS/HT program can help them meet your shared objective of improving the continuing (post-secondary) education and employment of young people with disabilities in technology-related occupations. This discussion should also cover a review on how the HS/HT model can deliver WIA's youth program themes and elements to young people with disabilities; and how it will increase your program's capacity to serve more students with disabilities.

b. The plan for tracking the demographic characteristics of program participants, types of programming activities conducted as well as HS/HT participant outcomes. These include:

1. numbers of youths with disabilities placed in competitive employment, including paid internships;

2. numbers of youths with disabilities who continue with post secondary education; and,

3. comparative data on local youths with disabilities not served in the HS/HT program.

3. Collaboration and Coordination (20 Points)

In evaluating the collaboration and coordination of the proposed project, the Department will consider the following factors.

a. Statement(s) of support and leadership from one or more of your area's WIA system elements (WIA Local Board, including its Youth Council, a Job Corps Center, a Youth Opportunity Grant program, a WIA Formula Funded Youth Program, a WIA Native American or a WIA Migrant Worker program).

b. Support from key community organizations, especially special education and vocational rehabilitation.

c. Support from area employers, people with disabilities and family members.

4. Innovations and Model Services (20 Points)

In evaluation the innovations and model services of the proposed project, the Department will consider the following factors:

a. Recommendations for strategies to cooperate in a technical assistance effort providing information and advice to other HS/HT and WIA program operators.

d. Strategy for meeting the needs of youth with disabilities from diverse cultures and/or ethic groups. (Note: the NAACP, National Urban League, La Raza, and ASPIRA all operate at least one model HS/HT program dedicated to serving minority youths with disabilities).

5. Demonstrated Capability of the Organization(s) (15 Points)

In evaluation the capability of the organization(s) involved in the proposed project, the Department will consider the following factors:

a. The names and qualifications of staff and related technical experts to support the objectives of this SGA.

b. Examples of prior successes in serving youths with disabilities and already existing relationships with local WIA programs.

B. Selection Criteria

Except as specifically provided, acceptance of a proposal and an award of federal funds to sponsor any program(s) is not a waiver of any grant requirement and/or procedures. Grantees must comply with all applicable Federal statutes, regulations, administrative requirements and OMB Circulars. For example, the OMB circulars require, and an entity's procurement procedures must require that all procurement transaction shall be conducted, as practical, to provide open and free competition. If a proposal identifies a specific entity to provide the services, the award does not provide the justification or basis to sole-source the procurement, i.e., avoid competition.

A panel will objectively rate each complete application against the criteria described in this SGA. The panel recommendations to the Grant Officer are advisory in nature. The Grant Officer may elect to award grants either with or without discussion with the applicant. In situations where no discussion occurs, an award will be based on the signed SF 424 form (see Appendix A), which constitutes a binding offer. The Grant Officer may consider the availability of funds and any information that is available and will make final award decisions based on what is most advantageous to the government, considering factors such as:

A. Findings of the grant technical evaluation panel; and,

B. Geographic distribution of the competitive applications.

IX. Reporting

Grantees are required to provide typed reports to DOL/ODEP or its designee on the status of their program alignment on a quarterly basis by March 30, June 30, September 30, and December 31, for a one year period. It is estimated that the quarterly report will take two hours to complete.

X. Administration Provisions

A. Administrative Standards and Provisions

Grantees are strongly encouraged to read these regulations before submitting a proposal. The grant awarded under this SGA shall be subject to the following:

29 CFR Part 95—Uniform Administrative Requirements for Grants and Cooperative Agreements with Institutions of Higher Education, etc.

29 CFR Part 96—Federal Standards for Audit of Federally Funded Grants, Contracts, and Agreements.

29 CFR Part 97—Uniform Administrative Requirement for Grants and Cooperative Agreements to State and Local Governments.

B. Allowable Cost

Determinations of allowable costs shall be made in accordance with the following applicable Federal cost principles:

State and Local Government—OMB Circular A-87

Nonprofit Organizations—OMB Circular A-122

Profit-making Commercial Firms—48 CFR Part 31

C. Grant Assurances

The applicant must include the attached assurances and certifications.

Profit will not be considered an allowable cost in any case.

Signed at Washington, D.C. this 6th day of July, 2001.
Lawrence J. Kuss,
Grant Officer.

BILLING CODE 4510-23-P

Appendix A. Application for Federal Assistance, Form SF 424

Appendix B. Budget Information Sheet, Form SF 424A

Appendix C. Assurances and Certifications Signature Page

[FR Doc. 01-17411 Filed 7-10-01; 8:45 am]

BILLING CODE 4510-23-C